DEPARTMENT OF LABOR

Mine Safety and Health Administration

[OMB Control No. 1219-0127]

Proposed Extension of Existing Information Collection on Qualification/Certification Program and Man Hoist Operators Physical Fitness

AGENCY: Mine Safety and Health Administration, Department of Labor.

ACTION: Notice of request for public comments.

SUMMARY: The Department of Labor, as part of its continuing effort to reduce paperwork and respondent burden, conducts a pre-clearance consultation program to provide the general public and Federal agencies with an opportunity to comment on proposed and continuing collections of information in accordance with the Paperwork Reduction Act of 1995 [44 U.S.C. 3506(c)(2)(A)]. This program helps to assure that requested data can be provided in the desired format, reporting burden (time and financial resources) is minimized, collection instruments are clearly understood, and the impact of collection requirements on respondents can be properly assessed. Currently, the Mine Safety and Health Administration (MSHA) is soliciting comments concerning the extension of the information collection for 30 CFR 75.100, 75.155, 75.159, 75.160, 75.161, 77.100, 77.105, 77.106, 77.107, and 77.107-1 on Qualification/Certification Program and Man Hoist Operators Physical Fitness.

DATES: All comments must be received by midnight Eastern Standard Time on April 18, 2011.

ADDRESSES: Comments must be identified clearly with the rule title and may be submitted to MSHA by any of the following methods:

(1) Electronic mail: zzMSHA-Comments@dol.gov.

(2) Facsimile: 202-693-9441

(3) Regular Mail: MSHA, Office of Standards, Regulations, and Variances, 1100 Wilson Boulevard, Room 2350, Arlington, VA 22209-3939.

(4) Hand Delivery or Courier: MSHA, Office of Standards, Regulations, and Variances, 1100 Wilson Boulevard, Room 2350, Arlington, VA 22209-3939. Sign in at the receptionist's desk on the 21st floor.

FOR FURTHER INFORMATION CONTACT: Mario Distasio, Chief of the Economic Analysis Division, Office of Standards, Regulations, and Variances, MSHA, at distasio.mario@dol.gov (e-mail), 202-693-9445 (voicemail), 202-693-9441 (facsimile).

SUPPLEMENTARY INFORMATION:

I. Background

Section 101(a) of the Federal Mine Safety and Health Act of 1977 (Mine Act) requires that the Secretary must develop, promulgate, and revise as may be appropriate, improved mandatory health or safety standards for the protection of life and prevention of injuries in coal or other mines. Under section 103(a)(2), authorized representatives of the Secretary of Labor or Secretary of Health and Human Services must make frequent inspections and investigations in coal or other mines each year for the purpose of gathering information with respect to mandatory health or safety standards.

Sections 75.159 and 77.106 require coal mine operators to maintain a list of persons who are certified and those who are qualified to perform duties under Parts 75 and 77, such as conduct examinations for hazardous conditions, conduct tests for methane and oxygen deficiency, conduct tests of air flow, perform electrical work, repair energized surface high-voltage lines, and perform duties of hoisting engineer. The recorded information is necessary to ensure that only persons who are properly trained and have the required number of years of experience are permitted to perform these duties. MSHA does not specify a format for the recordkeeping; however, it normally consists of the names of the certified and qualified persons listed in two columns on a sheet of paper. One column is for certified persons and the other is for qualified persons.

Sections 75.100 and 77.100 pertain to the certification of certain persons to perform specific examinations and tests. Sections 75.155 and 77.105 outline the requirements necessary to be qualified as a hoisting engineer or hoist man. Also, under §§ 75.160, 75.161, 77.107 and 77.107-1, the mine operator must have an approved training plan developed to train and retrain the qualified and certified people to effectively do their tasks.

These regulations recognize State certification and qualification programs. However, where State programs are not available, MSHA may certify and qualify persons.

The MSHA program will continue to qualify or certify individuals as long as these individuals meet the requirements for certification or qualification, fulfill any applicable retraining requirements, and remain employed at the same mine or by the same independent contractor.

Applications for Secretarial qualification or certification are submitted to the MSHA Qualification and Certification Unit in Denver, Colorado. MSHA Form 5000-41 provides the coal mining industry with a standardized reporting format that expedites the certification and qualification process while ensuring compliance with the regulations. MSHA uses the form's information to determine if applicants satisfy the requirements to obtain the certification or qualification sought. Persons must meet certain minimum experience requirements depending on the type of certification or qualification.

Section 103(e) of the Mine Act directs the Secretary of Labor not to impose an unreasonable burden on small businesses when obtaining any information under the Mine Act. This information collection does not have a significant impact on a substantial number of small entities.

II. Desired Focus of Comments

MSHA is particularly interested in comments that:

• Evaluate whether the collection of information is necessary for the proper performance of the functions of the agency, including whether the information has practical utility;

• Evaluate the accuracy of the agency's estimate of the burden of the collection of information, including the validity of the methodology and assumptions used;

• Enhance the quality, utility, and clarity of the information to be collected; and

• Minimize the burden of the collection of information on those who are to respond, including the use of appropriate automated, electronic, mechanical, or other technological collection techniques or other forms of information technology, e.g., permitting electronic submissions of responses.

A copy of the information collection request can be obtained by contacting the person listed in the FOR FURTHER INFORMATION CONTACT section of this notice, or viewed on the Internet by selecting “Rules & Regs”, and then selecting “FedReg.Docs”. On the next screen, select “Paperwork Reduction Act Supporting Statement” to view documents supporting the Federal Register notice.

III. Current Actions

This notice contains the request for an extension of the existing collection of information in 30 CFR 75.100, 75.155, 75.159, 75.160, 75.161, 77.100, 77.105, 77.106, 77.107, and 77.107-1. MSHA does not intend to publish the results from this information collection. MSHA is seeking approval to display the expiration date for the OMB approval of this information collection on MSHA Form 5000-41.

There are no certification exceptions identified with this information collection and the collection of this information does not employ statistical methods.

Type of Review: Three year update.

Agency: Mine Safety and Health Administration.

OMB Number: 1219-0127.

Frequency: Annually.

Affected Public: Business or other for-profit.

Cost to Federal Government: none.

Total Burden Respondents: $1,547.

Total Number of Responses: 6,966.

Total Burden Hours: 679 hours.

Total Hour Burden Cost (operating/maintaining): $125.

Comments submitted in response to this notice will be summarized and included in the request for Office of Management and Budget approval of the information collection request; they will also become a matter of public record.

Dated: February 11, 2011.
Roslyn B. Fontaine,
Acting Director, Office of Standards, Regulations and Variances, Certifying Officer.

[FR Doc. 2011-3592 Filed 2-16-11; 8:45 am]

BILLING CODE 4510-43-P